DEPARTMENT OF HEALTH AND HUMAN SERVICES

Centers for Disease Control and Prevention

Notice of Award of a Single-Source Cooperative Agreement To Fund the Haitian Ministry of Health and Population

AGENCY: Centers for Disease Control and Prevention (CDC), Department of Health and Human Services (HHS).

ACTION: Notice.

SUMMARY: The Centers for Disease Control and Prevention (CDC), in the Department of Health and Human Services (HHS), announces the award of approximately $15,000,000, for Year 1 funding to the Haitian Ministry of Health and Population (MSPP). The award will strengthen the public health system in Haiti by building the capacity of MSPP and partners to sustain governance of public health programs and, laboratory quality systems, monitor and evaluate programs, conduct surveillance for priority diseases and conditions (including, but not limited to, HIV, TB, cholera, VPDs, malaria, AFP, LF, rabies, COVID), and provide high quality health services. Funding amounts for years 2-5 will be set at continuation.

DATES: The period for this award will be September 30, 2023, through September 29, 2028.

FOR FURTHER INFORMATION CONTACT: Chen Chung, Center for Global Health, Centers for Disease Control and Prevention, Boulevard 15 Octobre, Tabarre 41 Port-au-Prince, Haiti, Telephone: (509) 3170-3493, Email: htt0@cdc.gov.

SUPPLEMENTARY INFORMATION: The single-source award will strengthen public health systems in Haiti to maximize the positive impact of the MSPP on the HIV and TB response, disease surveillance, emergency preparedness, workforce development, immunization, and other programs to achieve and sustain epidemic control as well as prevent or mitigate future outbreaks.

The MSPP is in a unique position to conduct this work, as it has the statutory authority to develop and oversee the information and surveillance system related to all diseases and is the only line ministry having the presence in the 10 geographical departments of the country and as such maintains 10 directorates equipped with both technical and administrative capacity.

Summary of the Award

Recipient: The Haitian Ministry of Health and Population (MSPP).

Purpose of the Award: The purpose of this award is to strengthen the public health system in Haiti by building the capacity of MSPP and partners to sustain governance of public health programs and, laboratory quality systems, monitor and evaluate programs, conduct surveillance for priority diseases and conditions (including, but not limited to, HIV, TB, cholera, VPDs, malaria, AFP, LF, rabies, COVID), and provide high quality health services.

Amount of Award: The approximate year 1 funding amount will be $15,000,000 in Federal Fiscal Year (FYY) 2023 funds, subject to the availability of funds. Funding amounts for years 2-5 will be set at continuation.

Authority: This program is authorized under Public Law 108-25 (the United States Leadership Against HIV AIDS, Tuberculosis and Malaria Act of 2003).

Non-PEPFAR Funding

Additionally, this program is authorized under sections 301(a) and 307 of the Public Health Service Act, as amended [42 U.S.C. 241(a) and 2421].

Period of Performance: September 30,2023 through September 29, 2028.

Dated: March 9, 2023.
Terrance Perry,
Chief Grants Management Officer, Centers for Disease Control and Prevention.

[FR Doc. 2023-05248 Filed 3-14-23; 8:45 am]

BILLING CODE 4163-18-P